DEPARTMENT OF THE INTERIOR

Bureau of Ocean Energy Management

Notice of Availability of the Proposed Notice of Sale for Gulf of Mexico Outer Continental Shelf Oil and Gas Region-Wide Lease Sale 250; MMAA 104000

AGENCY: Bureau of Ocean Energy Management, Interior.

ACTION: Notice of Availability of the Proposed Notice of Sale for Gulf of Mexico Outer Continental Shelf Oil and Gas Region-wide Lease Sale 250.

SUMMARY: The Bureau of Ocean Energy Management (BOEM) announces the availability of the Proposed Notice of Sale (NOS) for the proposed Gulf of Mexico (GOM) Outer Continental Shelf (OCS) Oil and Gas Lease Sale 250 (GOM Region-wide Sale 250). This Notice is published pursuant to 30 CFR 556.304(c). With regard to oil and gas leasing on the OCS, the Secretary of the Interior, pursuant to section 19 of the Outer Continental Shelf Lands Act, provides affected states the opportunity to review the Proposed NOS. The Proposed NOS sets forth the proposed terms and conditions of the sale, including minimum bids, royalty rates, and rental rates.

DATES: Affected states may comment on the size, timing, and location of proposed GOM Region-wide Sale 250 within 60 days following their receipt of the Proposed NOS. The Final NOS will be published in the Federal Register at least 30 days prior to the date of bid opening. Bid opening is currently scheduled for March 21, 2018.

SUPPLEMENTARY INFORMATION: The Proposed NOS for GOM Region-wide Sale 250 and Proposed NOS Package containing information essential to potential bidders may be obtained from the Public Information Unit, Gulf of Mexico Region, Bureau of Ocean Energy Management, 1201 Elmwood Park Boulevard, New Orleans, Louisiana 70123-2394; telephone: (504) 736-2519. The Proposed NOS and Proposed NOS Package also are available on BOEM's Web site at http://www.boem.gov/Sale-250/.

AGENCY CONTACT: Dr. Andrew Krueger, Chief, Sales Coordination Branch, 703-787-1554, andrew.krueger@boem.gov.

Dated: October 23, 2017.
Walter D. Cruickshank,
Acting Director, Bureau of Ocean Energy Management.

[FR Doc. 2017-23310 Filed 10-25-17; 8:45 am]

BILLING CODE 4310-MR-P